DEPARTMENT OF AGRICULTURE

Rural Business-Cooperative Service

[Docket #: RBS-21-BUSINESS-0021]

Notice of Solicitation of Applications for Inviting Applications for the Rural Microentrepreneur Assistance Program for Fiscal Year 2022

AGENCY: Rural Business-Cooperative Service, USDA.

ACTION: Notice.

SUMMARY: The Rural Business-Cooperative Service (Agency), an agency of the United States Department of Agriculture (USDA), is making an initial announcement to invite applications for loans and grants under the Rural Microentrepreneur Assistance Program (RMAP) for fiscal year (FY) 2022, subject to the availability of funding. This notice is being issued in order to allow applicants sufficient time to leverage financing, prepare and submit their applications, and give the Agency time to process applications within FY22. Successful applications will be selected by the Agency for funding and subsequently awarded to the extent that funding may ultimately be made available through appropriations. RMAP provides the following types of support: loan only, combination loan and technical assistance grant, and subsequent technical assistance grants to Microenterprise Development Organizations (MDO). An announcement will be made on the Agency website: https://www.rd.usda.gov/ regarding any amount received in the FY22 appropriations. All applicants are responsible for any expenses incurred in developing their applications or any costs incurred prior to the obligation date.

DATES: The deadlines for completed applications to be received in the USDA Rural Development State Office for quarterly funding competitions are no later than 4:30 p.m. (local time) on: First Quarter, September 30, 2021; Second Quarter, December 31, 2021; Third Quarter, March 31, 2022; and Fourth Quarter, June 30, 2022.

The subsequent microlender technical assistance grant (existing MDOs with a microentrepreneur revolving loan fund) will be made, non-competitively, based on the microlender's microlending activity and availability of funds. To determine the microlender technical assistance grant awards for FY22, if available, the Agency will use the microlender's outstanding balance of microloans as of June 30, 2022, to calculate the eligible grant amount. MDOs that are in compliance with the terms of their loan agreement may apply for this annual grant.

ADDRESSES: Applications must be submitted electronically to the USDA Rural Development State Office for the state where the project is located. Applicants are encouraged to contact their respective Rural Development State Office for an email contact to submit an electronic application prior to the submission deadline date(s). A list of the USDA Rural Development State Office contacts can be found at: http://www.rd.usda.gov/contact-us/state-offices.

This funding opportunity will be made available for informational purposes on Grants.gov.

FOR FURTHER INFORMATION CONTACT: Shamika Johnson at shamika.johnson@usda.gov, Program Management Division, Business Programs, Rural Business-Cooperative Service, U.S. Department of Agriculture, 1400 Independence Avenue SW, Mail Stop 3226, Room 5160-S, Washington, DC 20250-3226, or call (202) 720-1400. For further information on this notice, please contact the USDA Rural Development State Office in the State in which the applicant's headquarters is located. A list of Rural Development State Office contacts is provided at the following link: http://www.rd.usda.gov/contact-us/state-offices.

SUPPLEMENTARY INFORMATION: Pursuant to Subtitle E of the Small Business Regulatory Enforcement Fairness Act of 1996 (also known as the Congressional Review Act or CRA), 5 U.S.C. 801 et seq., the Office of Information and Regulatory Affairs in the Office of Management and Budget designated this action as a major rule, as defined by 5 U.S.C. 804(2), because it is likely to result in an annual effect on the economy of $100,000,000 or more. Accordingly, there is a 60-day delay in the effective date of this action. Application rating, ranking and selection will not begin until after September 30, 2021. Therefore, the 60-day delay required by the CRA is not expected to have a material impact upon the administration and/or implementation of the RMAP Program.

Overview

Federal Agency Name: Rural Business-Cooperative Service.

Funding Opportunity Title: Rural Microentrepreneur Assistance Program.

Announcement Type: Initial Announcement.

Assistance Listing (formally Catalog of Federal Domestic Assistance Number): 10.870.

Funding Opportunity Number (grants.gov): RD-RBS-21-01-RMAP.

Dates: The deadlines for completed applications to be received in the USDA Rural Development State Office for quarterly funding competitions are no later than 4:30 p.m. (local time) on: First Quarter, September 30, 2021; Second Quarter, December 31, 2021; Third Quarter, March 31, 2022, and Fourth Quarter, June 30, 2022.

Administrative: If two or more applications have the same score and funds are not available to fund both projects, the Administrator may prioritize applications to help the program achieve overall geographic diversity. The Agency encourages applicants to consider projects that will advance the following key priorities:

• Assisting Rural communities recover economically from the impacts of the COVID-19 pandemic, particularly disadvantaged communities;

• Ensuring all rural residents have equitable access to RD programs and benefits from RD funded projects; and

• Reducing climate pollution and increasing resilience to the impacts of climate change through economic support to rural communities.

I. Program Description

A. Purpose of the Program. The purpose of RMAP is to support the development and ongoing success of rural Microentrepreneurs and Microenterprises, each as defined in 7 CFR 4280.302. The regulation can be accessed online at https://www.ecfr.gov. To accomplish this purpose, RMAP provides direct loans and grants to MDOs. Loan funds are used by the MDO to establish or recapitalize a revolving loan program for making microloans to a rural microentrepreneur business. Grant funds are used by the MDO to provide technical assistance and entrepreneurship training to rural individuals and businesses.

B. Statutory Authority. RMAP is authorized by Section 379E of the Consolidated Farm and Rural Development Act (Pub. L. 87-128), as amended, and is codified as 7 U.S.C. 2008s. Regulations are contained in 7 CFR part 4280, subpart D and can be found online at https://www.ecfr.gov. Assistance provided to rural areas under this program may include the provision of loans and grants to rural MDOs for the provision of microloans to rural microenterprises and microentrepreneurs; provision of business-based training and technical assistance to rural microborrowers and potential microborrowers; and other such activities as deemed appropriate by the Secretary to ensure the development and ongoing success of rural microenterprises. Awards are made on a competitive basis using specific selection criteria contained in 7 CFR part 4280, subpart D.

C. Definition of Terms. The definitions applicable to this notice are published at 7 CFR 4280.302.

D. Application Awards. The Agency will review, evaluate, and score applications received in response to this notice based on the provisions found in 7 CFR part 4280, subpart D, and as indicated in this notice. However, the Agency advises all interested parties that the applicant bears the burden in preparing and submitting an application in response to this notice whether or not funding is appropriated for this program in FY 22. Information required to be in the application is specified in 7 CFR 4280.315. For entities applying for program loan funds to become an RMAP microlender only, the following items are also required: (1) Form RD 1910-11, “Applicant Certification Federal Collection Policies for Consumer or Commercial Debts;” (2) Demonstration that the applicant is eligible to apply to participate in this program; and (3) Certification by the applicant that it cannot obtain sufficient credit elsewhere to fund the activities called for under this program with similar rates and terms.

Current MDO entities may be eligible for subsequent annual microlender technical assistance grants that are awarded subject to funding availability and determined non-competitively based on Agency appropriations for the FY. The MDO must submit a prescribed worksheet, listing the outstanding balance of their microloans and unexpended grant funds as of June 30, 2022, and a letter certifying that their organization still meets all the requirements set forth in 7 CFR part 4280, subpart D, and that no significant changes have occurred within the last year that would affect its ability to carry out the MDO functions. In addition, all MDOs who request Subsequent Annual Microlender Technical Assistance Grants must complete their reporting into the Lenders Interactive Network Connection (LINC) for the Federal fiscal quarter ending June 30, 2022 which will verify the outstanding balance of their microloans as stated in their request for grant funds. The deadline for reporting into LINC and requesting a technical assistance grant is no later than 4:30 p.m. (local time) on August 1, 2022.

II. Federal Award Information

Type of Awards: Loans and/or Grants.

Fiscal Year Funds: FY 2022.

Available Funds. Anyone interested in submitting an application for funding under these Programs is encouraged to consult the Rural Development Notices of Solicitation of Applications website at http://www.rd.usda.gov/newsroom/notices-solicitation-applications-nosas.

Maximum Award: The Agency anticipates the following maximum amounts per award: Loans—$500,000; Grants—$100,000.

Application Funding Competition Dates: First Quarter, September 30, 2021; Second Quarter, December 31, 2021; Third Quarter, March 31, 2022 and Fourth Quarter, June 30, 2022.

III. Eligibility Information

A. Eligible Applicants. Eligible applicants are domestic organizations that are non-profit entities, Indian tribes, or public institutions of higher education, and eligible applicants must provide training and technical assistance, make microloans, facilitate access to capital, or have an effective plan or program to deliver such services. The applicant must meet the eligibility requirements in 7 CFR 4280.310 and must not be delinquent on any Federal debt or otherwise disqualified from participation in this program to be eligible to apply. The Agency will check the System for Award Management (SAM) to determine if the applicant has been debarred or suspended at the time of application and also prior to funding any grant award. All other restrictions in this notice will apply.

B. Cost Sharing or Matching. The Federal share of the eligible project cost of a microborrower's project funded under this notice shall not exceed 75 percent. The cost share requirement shall be met by the microlender in accordance with the requirements specified in 7 CFR 4280.311(d).

The MDO is required to provide a match of not less than 15 percent of the total amount of the grant in the form of matching funds, indirect costs, or in-kind goods or services.

C. Other Eligibility Requirements. Applications will only be accepted from eligible MDOs. Eligible MDOs must score a minimum of 60 points out of 100 points to be considered to receive an award. Awards for each Federal fiscal quarter will be based on ranking with the highest-ranking applications being funded first, subject to available funding.

D. Completeness Eligibility. All applications must be submitted as a complete application, in one package. Applications will not be considered for funding if they do not provide sufficient information to determine eligibility or are otherwise not suitable for evaluation. Such applications will be withdrawn.

IV. Application and Submission Information

A. Address to Request Application Package. For further information, entities wishing to apply for assistance should contact the Rural Development State Office as identified in the ADDRESSES section of this notice to obtain electronic copies of the application package.

An MDO may submit an initial application for a loan with a microlender technical assistance grant, or an initial or subsequent loan-only (without a microlender technical assistance grant). Loan applications must be submitted electronically to the State Office where the project is located and must be organized in the same order set forth in 7 CFR 4280.315. Applicants are strongly encouraged to contact their respective Rural Development State Office for an email contact to submit an electronic application prior to the submission deadline date(s).

B. Content and Form of Application Submission. An application must contain all of the required elements outlined in 7 CFR 4280.315. Each application must address the applicable scoring criteria presented in 7 CFR 4280.316 for the type of funding being requested.

C. Dun and Bradstreet Data Universal Numbering System and System for Award Management. All applicants must have a Dun and Bradstreet Data Universal Numbering System (DUNS) number which can be obtained at no cost via a toll-free request line at (866) 705-5711 or at http://fedgov.dnb.com/webform or any subsequent unique entity identifier number. Each applicant applying for loan or grant funds must (i) be registered in the System for Award Management (SAM) before submitting its application and (ii) provide a valid unique entity identifier in its application, unless determined exempt under 2 CFR 25.110. Applicants must maintain an active SAM registration, with current, accurate and complete information, at all times during which it has an active Federal award or an application under consideration by a Federal awarding agency. Applicants must ensure they complete the Financial Assistance General Certifications and Representations in SAM.

The Agency will not make an award until the applicant has complied with all applicable DUNS (unique entity identifier) and SAM requirements. If an applicant has not fully complied with the requirements by the time the Agency is ready to make an award, the agency may determine that the applicant is not qualified to receive a Federal award and use that determination as a basis for making a Federal award to another applicant.

D. Submission Dates and Times. Competitions for the available loan and grant funds will be made quarterly for applications that are received no later than 11:59 p.m. (local time) on: First Quarter, September 30, 2021; Second Quarter, December 31, 2021; Third Quarter, March 31, 2022; and Fourth Quarter, June 30, 2022.

Unless withdrawn by the applicant, completed applications that receive a score of at least 60 (the minimum required to be considered for funding), but have not yet been funded, will be retained by the Agency for consideration in subsequent reviews through a total of four consecutive quarterly reviews. Applications that remain unfunded after four quarterly reviews, including the initial quarter in which the application was competed, will not be considered further for an award.

E. Explanation of Dates. Applications must be in the USDA Rural Development State Office by the dates and times as indicated above to compete for available funds in that fiscal quarter. If the due date falls on a Saturday, Sunday, or Federal holiday, the application is due the next business day.

F. Intergovernmental Review. This program is subject to Executive Order 12372, which requires intergovernmental consultation with State and local officials. Intergovernmental consultation will occur for the assistance to MDOs in accordance with the process and procedures outlined in 2 CFR part 415, subpart C. Assistance to rural microenterprises will not require intergovernmental review. Applications from Federally recognized Indian tribes are not subject to this requirement.

Rural Development will conduct intergovernmental consultation using RD Instruction 1970-I “Intergovernmental Review,” available in any Rural Development office, on the internet at http://www.rd.usda.gov/sites/default/files/1970i.pdf and in 2 CFR part 415, subpart C. Note that not all States have chosen to participate in the intergovernmental review process. A list of participating States is available at the following website: https://www.whitehouse.gov/omb/management/office-federal-financial-management/.

G. Funding Restrictions. No funds made available under this notice shall be used for those ineligible purposes outlined in 7 CFR 4280.313(e).

V. Application Review Information

A. Criteria. All eligible and complete applications for new loan and grant funds will be evaluated and scored based on the selection criteria and weights contained in 7 CFR part 4280, subpart D. A copy of the regulation can be accessed online at https://www.ecfr.gov. Failure to address any one of the criteria by the application deadline will result in the application being determined ineligible and the application will not be considered for funding. An application must receive at least 60 points to be considered for funding in the quarter in which it is scored.

B. Review and Selection Process. The State Offices will review applications to determine if they are eligible for assistance based on requirements contained in 7 CFR part 4280, subpart D. If determined eligible, the application will be submitted to the National Office, where it will be reviewed and prioritized by ranking each application received in that quarter, in highest to lowest score order. All applications will be funded from the highest to lowest score until funds have been exhausted for each funding cycle. Funding of projects is subject to the MDO's satisfactory submission of the additional items required by that subpart and the USDA Rural Development Letter of Conditions.

VI. Federal Award Administration Information

A. Award Notices. Successful applicants will receive notification for funding from the USDA Rural Development State Office. Applicants must comply with all applicable statutes and regulations before the award will be approved. Provided the application and eligibility requirements have not changed, an application not selected will be reconsidered for three subsequent funding competitions for a total of four competitions. If an application is withdrawn, it can be resubmitted and will be evaluated as a new application. Unsuccessful applications will receive notification by mail, detailing why the application was unsuccessful.

B. Administrative and National Policy Requirements. Additional requirements that apply to MDOs selected for this program can be found in 7 CFR part 4280, subpart D. The USDA and the Agency have adopted the USDA grant regulations at 2 CFR chapter IV. This regulation incorporates the new Office of Management and Budget regulations 2 CFR part 200 and 2 CFR part 400 for monitoring and servicing RMAP funding.

C. Reporting. In addition to any reports required by 2 CFR part 200 and 2 CFR part 400, the MDO must provide reports as required by 7 CFR part 4280, subpart D. All recipients of Federal financial assistance are required to report information about first-tier sub-awards and executive compensation (see 2 CFR part 170). You will be required to have the necessary processes and systems in place to comply with the Federal Funding Accountability and Transparency Act of 2006 (Pub. L. 109-282) reporting requirements (see 2 CFR 170.200(b), unless you are exempt under 2 CFR 170.110(b)).

Intermediaries must collect and maintain data provided by Ultimate Recipients on race, sex, and national origin and must also ensure that Ultimate Recipients collect and maintain this data. Race and ethnicity data will be collected in accordance with Office of Management and Budget (OMB) Federal Register notice, “Revisions to the Standards for the Classification of Federal Data on Race and Ethnicity” (62 FR 58782), October 30, 1997. Sex data will be collected in accordance with Title IX of the Education Amendments of 1972. These items should not be submitted with the application but should be available upon request by the Agency.

The applicant and the Ultimate Recipients must comply with Title VI of the Civil Rights Act of 1964, Title IX of the Education Amendments of 1972, Americans with Disabilities Act (ADA), Section 504 of the Rehabilitation Act of 1973, Age Discrimination Act of 1975, Executive Order 12250, Executive Order 13166 Limited English Proficiency (LEP), and 7 CFR part 1901, subpart E.

VII. Federal Awarding Agency Contacts

For general questions about this notice, please contact your USDA Rural Development State Office as provided in the ADDRESSES section of this notice.

VIII. Paperwork Reduction Act

In accordance with the Paperwork Reduction Act of 1995, the information collection requirements associated with the Rural Microentrepreneur Assistance Program, as covered in this notice, have been approved by OMB under OMB Control Number 0570-0062.

IX. Nondiscrimination Statement

In accordance with Federal civil rights law and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights about the nature and date of an alleged civil rights violation. The completed AD-3027 form or letter must be submitted to USDA by:

(1) Mail: U.S. Department of Agriculture, Office of the Assistant Secretary for Civil Rights, 1400 Independence Avenue SW, Washington, DC 20250-9410;

(2) Fax: (833) 256-1665 or (202) 690-7442; or

(2) Email: program.intake@usda.gov.

USDA is an equal opportunity provider, employer, and lender.

Mark Brodziski,
Acting Administrator, Rural Business-Cooperative Service, USDA Rural Development.

[FR Doc. 2021-16246 Filed 7-29-21; 8:45 am]

BILLING CODE 3410-XY-P